OFFICE OF MANAGEMENT AND BUDGET

Final Report and Recommendations From the Metropolitan Area Standards Review Committee to the Office of Management and Budget Concerning Changes to the Standards for Defining Metropolitan Areas

AGENCY: Executive Office of the President, Office of Management and Budget (OMB), Office of Information and Regulatory Affairs.

ACTION: Notice and request for comment.

SUMMARY: OMB requests comment on the final recommendations it has received from the Metropolitan Area Standards Review Committee for changes to OMB's metropolitan area standards. The committee's recommendations, which are published in their entirety in the appendix to this Notice, reflect the comprehensive review of the metropolitan area concept and the current standards that began in the early 1990s. These recommendations also reflect consideration of comments received in response to the committee's initial recommendations as published in the October 20, 1999 Federal Register (64 FR 56628-56644). The committee's final recommendations include both modifications and additions to the initial recommendations.

Decisions on changes to the metropolitan area standards will not affect the collection, tabulation, and publication of data from Census 2000 and other current Federal data collections for geographic areas such as states, counties, county subdivisions, and municipalities. In addition, the Census Bureau will tabulate and publish data from Census 2000 for all metropolitan areas in existence at the time of the census.

DATES: To ensure consideration during the final decision making process, OMB must receive all written comments no later than October 6, 2000.

ADDRESSES: Please send comments about the committee's final recommendations to: Katherine K. Wallman, Chief Statistician, Office of Information and Regulatory Affairs, Office of Management and Budget, Room 10201 New Executive Office Building, 725 17th Street, NW., Washington, DC 20503; fax: (202) 395-7245.

Electronic Availability and Addresses: This Federal Register Notice, and the two previous Notices related to the review of the metropolitan area standards, are available electronically from the OMB web site: <<http://www.whitehouse.gov/OMB/fedreg/index.html>>. Federal Register Notices also are available electronically from the U.S. Government Printing Office web site: <<http://www.access.gpo.gov/su_docs/aces/aces140.html>>. Maps portraying the extent of areas that would be defined if the recommended standards were applied to 1990 census data, as well as lists of those areas, their components, and principal cities, are available electronically from the Census Bureau's web site: <<http://www.census.gov/population/www/estimates/masrp.html>>. Paper copies of these additional materials may be obtained by calling (301) 457-2419.

FOR FURTHER INFORMATION CONTACT: James D. Fitzsimmons, Chair, Metropolitan Area Standards Review Committee, (301) 457-2419; or E-mail <<pop.frquestion@ccmail.census.gov>>.

SUPPLEMENTARY INFORMATION:

Outline of Notice

1. Background

2. Review Process

3. Summary of Comments Received in Response to the October 20, 1999 Federal Register Notice

4. Overview of Final Recommendations From the Metropolitan Area Standards Review Committee

5. Specific Issues for Comment

Appendix—Final Report and Recommendations From the Metropolitan Area Standards Review Committee to the Office of Management and Budget Concerning Changes to the Standards for Defining Metropolitan Areas

A. Discussion of Final Recommendations

B. Comparison of 1990 Metropolitan Area Standards With the Recommended 2000 Metropolitan and Micropolitan Area Standards

C. Recommended Standards for Defining Metropolitan and Micropolitan Areas

D. Key Terms

1. Background

The metropolitan area program has provided standard statistical area definitions for 50 years. In the 1940s, it became clear that the value of metropolitan data produced by Federal agencies would be greatly enhanced if agencies used a single set of geographic definitions for the Nation's largest centers of population and activity. OMB's predecessor, the Bureau of the Budget, led the effort to develop what were then called “standard metropolitan areas” in time for their use in 1950 census reports. Since then, comparable data products for metropolitan areas have been available.

The general concept of a metropolitan area is that of an area containing a large population nucleus and adjacent communities that have a high degree of integration with that nucleus. The purpose of the metropolitan area standards is to provide nationally consistent definitions for collecting, tabulating, and publishing Federal statistics for a set of geographic areas. OMB establishes and maintains these areas solely for statistical purposes. In reviewing and revising the areas, OMB does not take into account or attempt to anticipate any public or private sector nonstatistical uses that may be made of the definitions. These areas are not designed to serve as a general purpose geographic framework applicable for nonstatistical activities or for use in program funding formulas.

OMB discussed the evolution of the standards for defining metropolitan areas in detail in its December 21, 1998 Federal Register Notice, “Alternative Approaches to Defining Metropolitan and Nonmetropolitan Areas” (63 FR 70526-70561). Table 1 of that Notice summarized the evolution of metropolitan area standards since 1950. The Notice includes the standards that were used to define metropolitan areas during the 1990s.

OMB published the committee's report on its review and initial recommendations to OMB as part of the October 20, 1999 Federal Register Notice entitled, “Recommendations From the Metropolitan Area Standards Review Committee to the Office of Management and Budget Concerning Changes to the Standards for Defining Metropolitan Areas' (64 FR 56628-56644). In that Notice, the committee recommended the creation of a “Core Based Statistical Area” (CBSA) classification. That Notice also included four maps, as well as a table that compared the 1990 metropolitan area standards with the committee's initial recommendations for revised standards.

2. Review Process

From the beginning, OMB has reviewed the metropolitan area standards and, if warranted, revised them in the years preceding their application to new decennial census data. Periodic review of the standards is necessary to ensure their continued usefulness and relevance. The current review of the metropolitan area standards—the Metropolitan Area Standards Review Project—is the fifth such review. It addresses, as a first priority, users' concerns with the conceptual and operational complexity of the standards as they have evolved over the decades. Other key concerns of the review have been whether and how:

• To modify the standards further to stay abreast of changes in population distribution and activity patterns;

• To use advances in computer applications to consider new approaches to defining areas; and

• To capture a more complete range of U.S. settlement and activity patterns than the 1990 standards.

The committee has addressed a number of specific, major issues:

• Whether the Federal Government should define metropolitan and nonmetropolitan statistical areas;

• What geographic units—“building blocks”—should be used in defining the statistical areas;

• What criteria should be used to group together such building blocks in defining the statistical areas;

• Whether the statistical areas should account for all territory of the Nation;

• Whether there should be hierarchies or multiple sets of statistical areas in the classification;

• What kinds of entities should receive official recognition in the classification;

• Whether the classification should reflect statistical rules only or allow a role for local opinion; and

• How frequently statistical areas should be updated.

The review has included several Census Bureau research projects, open conferences held in November 1995 and January 1999, a congressional hearing in July 1997, presentations at professional and academic conferences, and meetings with Federal, state, and local officials. The December 1998 and October 1999 Federal Register Notices discuss these activities in detail.

In the fall of 1998, OMB chartered the Metropolitan Area Standards Review Committee and charged it with examining the 1990 metropolitan area standards in light of work completed earlier in the decade and providing recommendations for possible changes to those standards. Agencies represented on the committee include the Bureau of the Census (Chair), Bureau of Economic Analysis, Bureau of Labor Statistics, Bureau of Transportation Statistics, Economic Research Service (Agriculture), National Center for Health Statistics, and, ex officio, OMB. The Census Bureau provides research support to the committee.

This is the third Notice that seeks public comment. The December 1998 Federal Register Notice presented four alternative approaches to defining metropolitan and nonmetropolitan areas. The October 1999 Federal Register Notice presented the committee's initial recommendations to OMB. OMB sought and received comments on the issues, approaches, and recommendations outlined in these Notices. In developing the final recommendations set forth in this Notice, the committee has continued its work based on the earlier research and has considered all of the comments received in response to previous Notices, as well as comments received at numerous meetings where the proposals under consideration were discussed.

Ongoing research projects will improve our understanding of the Nation's patterns of settlement and activity and the ways in which the patterns can be portrayed. Research will continue into aspects of all of the alternative approaches presented in the December 1998 Notice. For example, Census Bureau staff are investigating the feasibility of developing a census tract level classification to identify settlement and land use categories along an urban-rural continuum. The Census Bureau has a project to conduct additional research on the comparative density approach outlined in the December 1998 Notice. It also is continuing research on potential uses of directional commuting statistics and commodity flow data in defining statistical areas. The Economic Research Service, in conjunction with the Office of Rural Health Policy in the Department of Health and Human Services and the University of Washington, has developed a nationwide census tract level rural-urban commuting area classification. This classification is available from the Economic Research Service web site: http://www.ers.usda.gov:80/briefing/rural/ruca/rucc.htm. In addition, the Census Bureau is investigating the feasibility of defining statistical areas that would better describe the functional relationships between geographic areas within the large, densely settled urban areas. These research efforts may lead to pilot projects of the Census Bureau or other agencies.

3. Summary of Comments Received in Response to the October 20, 1999 Federal Register Notice

The October 20, 1999 Federal Register Notice requested comment on the committee's initial recommendations to OMB concerning revisions to the standards for defining metropolitan areas. OMB received a total of 673 comments, including some that arrived after the December 30, 1999, deadline.

OMB received 167 comment letters and 34 E-mail messages on a variety of issues from individuals (72), municipalities (39), nongovernmental organizations (38), state governmental agencies (18), regional governmental and planning organizations (14), Federal agencies (10), and Members of Congress (10). In addition, it received 404 letters and 68 E-mail messages from individuals and organizations regarding the situation of Schuylkill County, Pennsylvania.

Eight commenters addressed the committee's recommendations about the qualification requirements for areas and central counties. Three commenters supported the committee's recommendation that areas should qualify for CBSA status if a core of sufficient size—a Census Bureau defined urban cluster of at least 10,000 population or an urbanized area of at least 50,000 population—was present. (In this Notice, the term “urban cluster” replaces the term “settlement cluster” that was used in the October 1999 Federal Register Notice.) Two commenters expressed concern that some current metropolitan areas that qualify based on the presence of a city of at least 50,000 population might not qualify as a macropolitan area under the recommended standards if an urbanized area is not present. They suggested including criteria in the new standards that would either (1) allow an area that contains a city of 50,000 or more population, but not an urbanized area, to qualify as a macropolitan area or (2) “grandfather” current metropolitan statistical areas. Three commenters questioned the way in which the recommended standards would use urban clusters and urbanized areas as cores to qualify central counties, in particular when a core crosses county lines, but the portion of the core in one county is not sufficient to qualify that county as central.

Many comments addressed whether core population or total area population should be used to determine the level to which each CBSA is assigned. Two commenters supported using total population of the CBSA to determine the level; one pointed out that by using core population to assign levels, it would be possible to have a micropolitan area with a greater total CBSA population than the total population of a macropolitan area. Two commenters suggested that the level to which a CBSA is assigned should be based on the population of the largest core in the area rather than on the total population in all cores. More than 470 commenters suggested that a county with a total population of at least 100,000 should qualify as a macropolitan area solely on that basis, even though its core population is less than 50,000; all but one of these commenters were specifically concerned with Schuylkill County, Pennsylvania.

OMB received 29 comments about terminology and the number of levels in the proposed CBSA standards. Six commenters argued that the core population size range recommended for the macropolitan area level was too broad and suggested that the standards should include five levels of areas instead of the recommended four. Six commenters favored use of the terms “metropolitan” and “nonmetropolitan.” One commenter favored using “metropolitan” and “nonmetropolitan,” but also supported recognizing micropolitan areas as a subset of nonmetropolitan areas. Two additional commenters supported using the term “metropolitan,” but one of them suggested not using the term “nonmetropolitan.” Another commenter supported a metropolitan/nonmetropolitan breakdown, but suggested classifying metropolitan areas into small, midsize, and large categories with core population thresholds of 50,000, 250,000, and 1,000,000, respectively. Two commenters argued that if the CBSA standards were to include several levels, these levels should be denoted with a numbering or lettering system instead of using specific terms. Some of these commenters and others opposed the use of the terms “megapolitan,” “macropolitan,” and “micropolitan” because they found them confusing. Other commenters suggested “community statistical area” to replace “core based statistical area,” and “nanopolitan” to replace “outside core based statistical area.” Three commenters suggested that all territory in the United States should be classified in the new system, and no area should be classified as a “non-” or “outside” area.

Forty-two commenters remarked on the committee's recommendation to use counties as the building block for CBSAs. Seventeen commenters supported the use of counties, and 25 favored census tracts or some other subcounty unit. One commenter suggested that if counties are used as building blocks, subcounty commuting data should be provided to data users. Nineteen commenters favored the use of minor civil divisions as building blocks; 18 of these commenters specifically favored the use of minor civil divisions as the building block for a primary set of areas in New England.

Eighteen commenters responded about the use of commuting data in the standards for qualifying outlying counties as well as mergers and combinations of adjacent CBSAs. Six commenters supported a 25 percent commuting threshold for outlying county qualification as the committee recommended; two suggested a 20 percent threshold. One commenter questioned the rationale behind raising the commuting threshold to 25 percent from the 15 percent threshold that has been in the standards since they were developed, arguing that raising the threshold to 25 percent will omit many counties that realistically are within the core's labor market. Two commenters expressed general support for the committee's recommendations. Seven commenters, however, expressed concerns that commuting data alone cannot measure all kinds of social and economic interactions between areas. One of these commenters suggested using population density data as an additional measure. One commenter noted that journey-to-work data alone are not sufficient to determine whether sufficient ties exist to warrant merging or combining two adjacent CBSAs.

Two commenters supported the committee's recommendations on mergers and three supported its recommendations on combinations. Two commenters suggested that local opinion should play a larger role in determining whether two adjacent areas should merge or combine.

Seventy-one commenters responded about the recommended criteria for titling CBSAs. Sixty-four of these 71 commenters remarked specifically on the impact that these criteria would have on the titles of current metropolitan areas in North Carolina. Seven commenters responded regarding the potential title of the current Norfolk-Virginia Beach-Newport News, VA-NC Metropolitan Statistical Area.

Forty-two commenters responded about the lack of recommended criteria for subdividing the largest CBSAs to form smaller component groupings of counties. All but one of these commenters favored development of criteria for subdividing areas. Twenty-six of these commenters were concerned with New Jersey or Long Island; their remarks pertained specifically to the perceived need for smaller groupings of counties within the New York and Philadelphia megapolitan areas to provide greater detail for data users. One commenter did not favor subdividing the New York megapolitan area. Sixteen commenters who favored subdividing CBSAs focused on Massachusetts; their remarks pertained primarily to the need for subdivisions of the Boston area.

Twenty-three commenters raised questions about the potential impact of the recommended standards on various nonstatistical programs, particularly those involving funding. Some commenters suggested that there should be a study to provide information about the current nonstatistical programmatic uses of metropolitan areas and the potential effect of new standards on existing programs.

Five commenters expressed concerns about the comparability of data provided under the 1990 standards and the proposed standards. They suggested that statistical areas should be defined for a period after the 2000 census using both the old and the new standards. Two commenters remarked on the confusion between the urban/rural and metropolitan/nonmetropolitan classifications. Both of these commenters suggested that a single classification that unambiguously identifies metropolitan, nonmetropolitan, urban, and rural without any overlapping of these concepts should be developed by OMB. Similarly, one commenter stated that the classification should include specific criteria for identifying rural areas.

The committee took all of these comments into account, giving them careful consideration. As outlined below, it adopted some of these suggested changes and modified its recommendations to OMB as a result of the comments. In a number of other cases, however, the committee concluded that it could not adopt the suggestions made by commenters without undermining efforts to achieve a consistent, national approach designed to enhance the value of metropolitan data produced by Federal agencies.

4. Overview of Final Recommendations From the Metropolitan Area Standards Review Committee

This Federal Register Notice makes available for comment the committee's final recommendations to OMB on how the current metropolitan area standards should be revised. These recommendations are presented in their entirety in the “Final Report and Recommendations From the Metropolitan Area Standards Review Committee to the Office of Management and Budget Concerning Changes to the Standards for Defining Metropolitan Areas,” provided in the appendix to this Notice. Section C of the appendix presents for public comment the specific standards recommended by the committee for adoption by OMB.

The committee recommends a classification based on densely settled concentrations of population called “cores.” The cores for this classification would be Census Bureau defined urbanized areas of 50,000 or more population and smaller urban clusters of 10,000 to 49,999 population that will be identified using Census 2000 data. Defining a CBSA would require the presence of at least one core of 10,000 or more population. The recommended CBSA classification has two categories of areas: (1) Metropolitan areas defined around at least one urbanized area of 50,000 or more population; and (2) micropolitan areas defined around at least one urban cluster of 10,000 to 49,999 population. The recommendation to identify micropolitan areas extends the classification to smaller population centers that in earlier decades would have been in a “nonmetropolitan residual.” The title for the new classification would be “Standards for Defining Metropolitan and Micropolitan Areas.”

These recommendations include a change from the committee's initial recommendation to identify “megapolitan areas,” based on one or more cores with a total core population of at least one million, and “macropolitan areas,” based on one or more cores with a total core population of 50,000 to 999,999. The committee recommends that additional research be undertaken to study the analytical utility of various categories based on population size, and more specifically, to determine meaningful size thresholds for such categories. In addition, these recommendations include a change from the committee's initial recommendation to base categories of areas on the total population in all cores within a CBSA.

The committee recommends the use of counties and equivalent entities as the building block for CBSAs throughout the United States, Puerto Rico, and Island Areas, including the use of counties as building blocks for CBSAs in New England. The committee also recommends that minor civil divisions be used as building blocks for a set of statistical areas conceptually similar to CBSAs for the New England states only.

The committee recommends identifying principal cities within CBSAs. It also recommends that component entities comprising one or more counties be identified within CBSAs that contain a single core with 2.5 million or more population. These component entities would be termed “metropolitan divisions.” (The committee's recommendations would extend this practice to the minor civil division based areas in New England.) This recommendation is an addition to the initial recommendations. The committee recommends titling each metropolitan division using the names of up to three principal cities within the metropolitan division, in order of descending city population size. If there are no principal cities located within a metropolitan division, the committee recommends including in the title the names of up to three counties in order of descending population size.

The committee recommends combining adjacent CBSAs when their employment interchange rate is at least 15. The areas that combine also would retain their identities as separate metropolitan and micropolitan areas.

5. Specific Issues for Comment

With this Notice, OMB requests comment on all of the final recommendations of the Metropolitan Area Standards Review Committee concerning revisions to the current standards for defining metropolitan areas. The standards recommended to OMB for adoption appear in Section C of the appendix to this Notice. Section A of the appendix provides a discussion of the recommendations on the various issues considered by the committee. Section B of the appendix presents a comparison of the 1990 metropolitan area standards with the recommended Metropolitan and Micropolitan Area Standards.

OMB notes that there were several issues on which comment was received, but on which the committee has not changed its initial recommendations, including the use of population in cores (in contrast to total area population) as a means of determining a CBSA's category (metropolitan or micropolitan), and the use only of the name of the largest principal city in each of up to three CBSAs that combine to title Combined Areas.

OMB particularly seeks comment on those final recommendations that differ from the committee's initial recommendations published in the October 20, 1999 Federal Register. These are the recommendations about the:

• Number of categories of CBSAs and the terms by which they would be identified (see Section A.1);

• Categorization of CBSAs on the basis of population in cores (Section A.1);

• Identification of New England City and Town Areas (NECTAs) to indicate that NECTAs are conceptually similar to CBSAs (Section A.2);

• Criteria for qualifying a central county (Section A.3);

• Identification of metropolitan divisions within CBSAs with a core of 2.5 Million or more population and NECTA divisions within NECTAs that have a core of that size (Section A.7); and

• Criteria for titling Combined Areas, which would now require that the second- and third-largest CBSAs in a Combined Area each have at least one-third the population of the largest area for their single largest principal cities to appear in the title (Section A.9).

OMB would appreciate receiving views and comments on any aspects of the recommended standards.

John T. Spotila,
Administrator, Office of Information and Regulatory Affairs.

Appendix—Final Report and Recommendations From the Metropolitan Area Standards Review Committee to the Office of Management and Budget Concerning Changes to the Standards for Defining Metropolitan Areas

Transmittal Memorandum

July 6, 2000.

Memorandum for Katherine K. Wallman, Chief Statistician, Office of Management and Budget

From: Metropolitan Area Standards Review Committee

Subject: Transmittal of Final Report and Recommendations Concerning Changes to the Standards for Defining Metropolitan Areas

We are pleased to transmit to you the attached report presenting this committee's final recommendations for modifying the Office of Management and Budget's (OMB's) standards for defining metropolitan areas. They represent our best technical and professional advice for how the standards could better account for and describe changes in settlement and activity patterns throughout the United States, Puerto Rico, and the Island Areas, yet still meet the data reporting needs and requirements of Federal agencies and the public. In developing these final recommendations, we have continued our review of work completed over the past several years, and we have considered and discussed comments that were received in response to our initial recommendations published in the October 20, 1999 Federal Register. In addition to a discussion of our final recommendations, we are providing a comparison of the standards we propose with the 1990 metropolitan area standards. We also are providing the specific standards recommended by the committee and definitions of key terms used in this report.

We hope that OMB will find these final recommendations informative and helpful in making its decision on what changes, if any, to adopt in the standards for defining geographic areas for collecting, tabulating, and publishing Federal statistics.

Attachment—Final Report and Recommendations from the Metropolitan Area Standards Review Committee to the Office of Management and Budget Concerning Changes to the Standards for Defining Metropolitan Areas

A. Discussion of Final Recommendations

1. Recommendations Concerning Categories and Terminology for a Core Based Statistical Area (CBSA) Classification to Be Titled “Standards for Defining Metropolitan and Micropolitan Areas”

The Metropolitan Area Standards Review Committee recommends adoption of a CBSA classification that uses densely settled concentrations of population (cores) for the qualification of areas. The classification would be titled “Standards for Defining Metropolitan and Micropolitan Areas.” The committee recommends a minimum population size of 10,000 for a core that would qualify a CBSA. Those CBSAs that are associated with at least one core of 50,000 or more population (an urbanized area) should be categorized as metropolitan areas. Those CBSAs that are associated with at least one core of 10,000 to 49,999 population (an urban cluster), but no single core of 50,000 or more population, should be categorized as micropolitan areas. Under these recommended standards, nearly 90 percent of the U.S. population would reside in micropolitan and metropolitan areas.

Territory not included in CBSAs should be referred to as being “outside core based statistical areas.” The committee suggests that additional research be done to identify methods for defining and categorizing territory outside CBSAs to attain an area classification that applies to the entire Nation.

The committee considered the following sometimes incompatible concerns as it developed size categories and terminology:

• Eliminating the current metropolitan/nonmetropolitan dichotomy and replacing it with a range of categories that more meaningfully represent the settlement and activity patterns of the Nation;

• Introducing specific terms for areas containing cores of 1,000,000 or more persons and cores of 250,000 to 999,999 persons, respectively;

• Evaluating advantages and disadvantages of retaining the 1990 metropolitan area standards' core population threshold of 50,000;

• Assessing advantages and disadvantages of retaining the metropolitan/nonmetropolitan terminology of the 1990 standards; and

• Maintaining simplicity.

Broad agreement existed in favor of establishing a micropolitan area category as a means of distinguishing between (1) areas integrated with smaller centers of population and activity and (2) territory not integrated with any particular population center. Defining micropolitan areas represents a response to comments that a revised classification should cover a broader range of population and economic activity patterns than the 1990 standards. The committee also considered various combinations of population distribution and economic activity pattern measures to classify counties not included in a CBSA, but none offered a satisfactory method of meaningfully accounting for these counties in the recommended classification.

The categories and terminology recommended here constitute a change from the committee's initial recommendations as reported in the October 20, 1999 Federal Register Notice. The changes in terminology are a response to public comment that urged retention of the term “metropolitan” in the revised standards because of its familiarity and broad usage among data users and the general public.

The committee considered two issues when discussing the basis for categorizing CBSAs as either metropolitan or micropolitan. The first of these issues was whether to base categorization on the total CBSA population or on core population. The committee agreed that since cores are the organizing entities of CBSAs, categorization should be on the basis of the population in cores, reasoning that the range of services and functions provided within an area largely derive from the size of the core.

The second issue was whether to categorize areas based on the population of the most populous (or “dominant”) core or on the total population of all (or “multiple”) cores within a CBSA. The committee's initial recommendation suggested categorizing areas on the basis of the total population in all cores within a CBSA. In reaching this decision, the committee reasoned that because all cores play a role in determining the extent of a CBSA, all should be taken into account when categorizing that CBSA. Although commuting is measured from county to county, most workers commute to specific cores. When there are multiple cores within a CBSA, each core plays a role in the qualification of outlying counties. Some committee members argued, however, that a single core of 50,000 or more population provides a wider variety of functions and services than does a group of smaller cores, even when such a group may have a collective population greater than 50,000. These committee members were concerned that CBSAs categorized as metropolitan on the basis of the population in all cores would not bear the same kinds of characteristics as CBSAs categorized as metropolitan areas on the basis of a single core of 50,000 or more population.

In reaching the decision to categorize CBSAs on the basis of the population in the largest core, the committee agreed that this is a complex issue that, in part, is reflected in the ongoing debate regarding the current nature of urbanization and urban systems. In the past, metropolitan areas tended to be dominated by a single core, consisting largely of a populous city and its adjacent densely settled suburbs. The dispersal of residential locations and economic activities that has occurred in some areas over the past 50 years, however, has resulted in multiple cores, each of which may provide specialized functions that contribute to the social and economic well-being of the entire area. The extent of the spheres of influence of the various cores may vary and overlap depending on the kinds of functions or services provided. One core may play a greater, or more dominant, role in organizing and influencing the social and economic activity of a particular CBSA. At the same time, its influence could be supplemented or possibly matched by additional cores within the same CBSA. The committee recommends further research on the functional integration of multiple, noncontiguous cores.

While recognizing the usefulness of standard size categories for CBSAs for tabulating data, the committee was less certain regarding the significance of specific population thresholds as a means of identifying functional differences between different sizes of areas. The committee therefore does not recommend delineations of categories of CBSAs with core populations greater than 50,000 and has dropped the “megapolitan” and “macropolitan” area categories set forth in its initial recommendations. The committee recommends retaining the population threshold of 50,000 to distinguish between micropolitan and metropolitan areas, primarily to maintain comparability with previous definitions of metropolitan areas. The committee concluded that additional research is needed to identify optimal population thresholds for categories of CBSAs. In the meantime, users can group the areas that would be defined as “metropolitan” by size to meet their particular research needs.

2. Recommendations Concerning the Geographic Unit to Be Used as the Building Block for Defining CBSAs

Counties and equivalent entities should be used as building blocks for CBSAs throughout the United States, Puerto Rico, and the Island Areas. Minor civil divisions should be used as the building block for a set of areas, similar in concept to CBSAs, in New England only. Using counties and equivalent entities throughout the United States and Puerto Rico continues current practice, except in New England, where historically metropolitan areas have been defined using minor civil divisions.

The choice of a geographic unit to serve as the building block can affect the geographic extent of a statistical area and its relevance or usefulness in describing economic and demographic patterns. The choice also has implications for the ability of Federal agencies to provide data for statistical areas and their components. The December 1998 Federal Register Notice, “Alternative Approaches to Defining Metropolitan and Nonmetropolitan Areas,” presented advantages and disadvantages of five potential building blocks. Each of these units was evaluated in terms of its consistency in delineation across the Nation, data availability, boundary stability, and familiarity.

The advantages of using counties and their equivalents are that they are available for the entire country, have stable boundaries, and represent familiar geographic entities. In addition, more Federal statistical programs produce data at the county level than at any subcounty level. The committee decided that the well-known disadvantages of counties as the building block for statistical areas—the large geographic size of some counties and the lack of geographic precision that follows from their use—were outweighed by the advantages offered by counties.

In reaching its recommendation to use counties as the building block for CBSAs in New England, the committee attached priority to the use of a consistent geographic unit nationwide. Use of a consistent geographic building block offers improved usability to producers and users of data; data for CBSAs in all parts of the country would be directly comparable. In addition, some statistical programs, such as those providing nationwide economic data and population estimates, regard the metropolitan area program's use of minor civil divisions in New England as a hindrance. They have sometimes used the currently available alternative county based areas for New England, known as the New England County Metropolitan Areas (NECMAs), or have minimized the number of data releases for metropolitan areas. Under the current metropolitan area program, then, data producers and users typically choose between (1) adhering to the preferred Metropolitan Statistical Areas, Consolidated Metropolitan Statistical Areas, and Primary Metropolitan Statistical Areas throughout the country and having data that limit comparisons between some areas, and (2) using alternative areas in New England and having more comparable data. The committee's recommendation eliminates the need for this choice.

Demographic and economic data for minor civil divisions in New England are more plentiful, however, than are such data for subcounty entities in the rest of the Nation. In recognition of the importance of minor civil divisions in New England, the wide availability of data for them, and their long-term use in the metropolitan area program, the committee recommends also using minor civil divisions as building blocks for a set of areas for the six New England states. These New England City and Town Areas (NECTAs) would be intended for use in the collection, tabulation, publication, and analysis of statistical data, whenever feasible and appropriate, for New England. Data providers and users desiring areas defined using a nationally consistent geographic building block should consider using the county based CBSAs in New England; however, counties are less well-known in New England than cities and towns.

3. Recommendations Concerning Cores of CBSAs and Central Counties

Census Bureau defined urbanized areas of 50,000 or more population and Census Bureau defined urban clusters of at least 10,000 population should be used as the cores of CBSAs. Identification of “central counties” should be based on the locations of the cores.

The recommended use of urbanized areas as cores is consistent with current practice. To extend the classification to areas based on cores of 10,000 to 49,999 population, the committee recommends the use of urban clusters, which the Census Bureau will identify following Census 2000. This change would permit a fuller accounting of the distribution of population and economic activity across the territory of the Nation than is provided by the current metropolitan area standards. Following from this recommendation, an urban area of at least 10,000 population would be required for qualifying a CBSA.

The locations of urbanized areas and urban clusters (referred to collectively as “urban areas”) should provide the basis for identifying central counties of CBSAs, which are the counties to and from which ties are measured in determining the extent of areas. The committee recommends identifying central counties as those counties that:

(a) Have at least 50 percent of their population in urban areas (urbanized area or urban cluster) of at least 10,000 population; or

(b) Have within their boundaries a population of at least 5,000 located in a single urban area (urbanized area or urban cluster) of at least 10,000 population.

The committee has revised its recommendation concerning criteria for identifying central counties since its initial recommendations were published in the October 20, 1999, Federal Register Notice. If a single urban area of at least 10,000 population has at least 5,000 population in a county, the committee recommends that the county qualify as a central county. This recommendation recognizes that a county may contain a portion of an urbanized area or urban cluster of sufficient size to act as an employment center for surrounding populations, but of insufficient size to have accounted for at least 50 percent of the population of a single urbanized area or urban cluster as required under the committee's initial recommendation. The choice of 5,000 as the threshold for central county qualification is consistent with the initial recommendation's minimum requirement for qualification as a central county of the smallest permissible core (i.e., 5,000 is 50 percent of the 10,000 population minimum core size).

4. Recommendations Concerning Criteria for Inclusion of Outlying Counties

Commuting data should be used as the basis for grouping counties together to form CBSAs (i.e., to qualify “outlying counties”). Measures of settlement structure, such as population density, should not be used to qualify outlying counties for inclusion in CBSAs. Three priorities guided the committee in reaching these recommendations. The data used to measure connections among counties should (1) describe those connections in a straightforward and intuitive manner, (2) be collected using consistent procedures nationwide, and (3) be readily available to the public. These priorities pointed to the use of data gathered by Federal agencies and, more particularly, to commuting data from the Census Bureau. Commuting to work is an easily understood measure that reflects the social and economic integration of geographic areas.

The recommendation not to use measures of settlement structure represents a change from the 1990 standards. In those standards, varying levels of population density, percentage of total population that is urban, presence of an urbanized area population, and population growth rate are used in combination with varying levels of commuting to determine qualification of outlying counties for inclusion in a metropolitan area. Settlement and commuting patterns, however, have changed over time as a result of improvements to public transportation; more and better-maintained roads; and increasing flexibility of some employers who permit irregular work weeks, flextime, and opportunities to work at home. The Internet, satellite hookups, and other technology also have played a role. The committee concluded that, as changes in settlement, commuting patterns, and communications technologies have occurred, settlement structure no longer is as reliable an indicator of metropolitan character as was previously the case.

An outlying county should qualify on the basis of the percentage of employed residents of the county who work in the CBSA's central county or counties, or on the basis of the percentage of employment in the potential outlying county accounted for by workers who reside in the CBSA's central county or counties. A 25 percent minimum threshold for each of these measures should be used.

The committee observed that the percentage of a county's employed residents who commute to the central county or counties is an unambiguous, clear measure of whether a potential outlying county should qualify for inclusion. The percentage of employment in the potential outlying county accounted for by workers who reside in the central county or counties is similarly a straightforward measure of ties. Including both criteria addresses the conventional and the less common reverse commuting flows.

The committee also noted changes in daily mobility patterns and increased interaction between communities as indicated by increases in inter-county commuting over the past 40 years. The percentage of workers in the United States who commute to places of work outside their counties of residence has increased from a national average of approximately 15 percent in 1960 (when nationwide commuting data first became available from the decennial census) to a national average of nearly 25 percent in 1990. The committee concluded that raising the commuting percentage required for qualification of outlying counties from the 15 percent minimum of the 1990 standards to 25 percent was appropriate against this background of increased overall inter-county commuting coupled with the removal of all settlement structure measures from the outlying county criteria. The 25 percent threshold also stood out as a noticeable divide when reviewing 1990 census data on the percentage of workers who commute outside their counties of residence.

Counties should qualify for inclusion in a CBSA as outlying counties on the basis of commuting ties with the central county (or counties) of that one area only. The committee concluded that outlying counties should not qualify based on total commuting to central counties of multiple CBSAs, because that would result in inconsistent grounds for qualification in an individual area. Throughout its history, the purpose of the metropolitan area program has been to identify individual statistical areas, each containing a core plus any surrounding territory integrated with that core as measured by commuting ties. The committee saw no reason to depart from that approach in defining CBSAs.

5. Recommendation Concerning Merging Adjacent CBSAs

Adjacent CBSAs should be merged to form a single CBSA when the central county or counties of one area qualify as outlying to the central county or counties of another. The committee determined that when the central county or counties (as a group) of one CBSA qualify as outlying to the central county or counties (as a group) of another area, the two CBSAs should be merged. Because a merger recognizes ties similar to the ties between an outlying county and the central counties of a CBSA, the committee recommends that the minimum commuting threshold similarly be set at 25 percent, measured with respect to all central counties of one CBSA relative to all central counties of the other.

6. Recommendations Concerning Identification of Principal Cities

Principal cities in CBSAs should be identified and used to title the areas. Because the procedures recommended by the committee use urbanized areas and urban clusters as the organizing entities for CBSAs, the identification of central cities as required by the 1990 standards for qualifying and defining areas is no longer necessary for that purpose. Also, while still important, central cities have become less dominant in the local context over time. Nevertheless, the committee recognizes that specific cities within individual CBSAs are important for analytical purposes as centers of employment, trade, entertainment, and other social and economic activities. The committee therefore recommends criteria for identifying principal cities and using the principal cities for titling areas.

The committee recommends that the principal city (or cities) of a CBSA include:

(a) The largest incorporated place or census designated place in the CBSA;

(b) Any additional incorporated place or census designated place with a population of at least 250,000 or in which 100,000 or more persons work; and

(c) Any additional incorporated place or census designated place with a population that is at least 10,000 and one-third the size of the largest place, and in which employment meets or exceeds the number of employed residents.

The committee recommends using the term “principal city” rather than “central city.” The term “central city” has come to connote “inner city” and thus sometimes causes confusion.

7. Recommendation Concerning Identification of Components within Metropolitan Areas and NECTAs that Contain at Least One Core of 2.5 Million or More Population

Within metropolitan areas that have at least one core with 2.5 million or more population, metropolitan divisions, consisting of one or more counties, should be identified. Urbanized areas with very large populations can extend across multiple counties and even across state boundaries, and can contain several distinct employment and settlement centers. Although these centers are part of a single agglomeration of population and activity, the degrees of functional integration between them can vary. The provision of data for only the entire metropolitan area based on such large urbanized areas may mask demographic and economic variations that are important for data users and analysts. To represent the social and economic variations found within the largest metropolitan areas, the committee recommends adopting criteria that would identify components called “metropolitan divisions,” which would comprise counties or groups of counties that function as distinct areas within the metropolitan area. (Designation of metropolitan divisions would have no effect on the previously defined central counties of the metropolitan area; these counties would remain central to the metropolitan area, regardless of any additional designation they might be given within metropolitan divisions.)

The committee recommends identifying a county as a “main county” of a metropolitan division if:

(a) More than 50 percent of its employed residents work within the county;

(b) The ratio of the number of jobs located in the county to the number of employed residents of the county is at least .75; and

(c) The highest rate of out-commuting from the county to any other county is less than 15 percent.

After all main counties have been identified, each additional county that already has qualified for inclusion in the metropolitan area should be included in the metropolitan division associated with the main county to which the county at issue sends the highest percentage of its out-commuters. Counties within a metropolitan division should be contiguous.

Differences in geographic scale between minor civil divisions and counties necessitate the use of a different set of criteria when identifying meaningful divisions within NECTAs that contain at least one core of 2.5 million or more population.

The committee recommends the following criteria for NECTA divisions:

(a) A city or town is identified as a “main city or town” of a NECTA division if the city or town at issue has a population of 50,000 or more and its highest rate of out-commuting to any other city or town is less than 20 percent.

(b) After all main cities and towns have been identified, each additional city and town that already has qualified for inclusion in the NECTA should be included in the NECTA division associated with the city or town to which the one at issue sends the highest percentage of its out-commuters.

The committee also recommends that each NECTA division should contain a total population of 100,000 or more. Cities and towns at first assigned to areas with less than 100,000 population subsequently should be assigned to the qualifying NECTA division associated with the city or town to which the one at issue sends the highest percentage of its out-commuters. Cities and towns within a NECTA division should be contiguous.

In recommending these criteria, the committee recognizes that cities and towns of 50,000 or more population represent significant centers around which to organize NECTA divisions; the 50,000 population threshold is consistent with population thresholds used in current and past classifications to identify population centers around which metropolitan area level entities are defined.

These recommendations for identifying metropolitan divisions and NECTA divisions are additions to the committee's initial recommendations.

8. Recommendations Concerning Combining Adjacent CBSAs

CBSAs should be combined when entire adjacent areas are linked through commuting ties. The committee recommends that ties between adjacent CBSAs that are less intense than those captured by mergers (see Section A.5), but still significant, be recognized by combining those CBSAs. Because a combination thus defined represents a relationship of moderate strength between two CBSAs, the areas that combine should retain separate identities within the combined area. Potential combinations should be evaluated by measuring commuting between entire adjacent CBSAs—commuting of all counties, as a group, within one CBSA relative to all counties, as a group, in the adjacent area.

The committee recommends basing combinations on the employment interchange rate between two CBSAs, defined as the sum of the percentage of commuting from the CBSA with the smaller total population to the CBSA with the larger total population and the percentage of employment in the CBSA with the smaller total population accounted for by workers residing in the CBSA with the larger total population. The committee recommends a minimum threshold of 15 for the employment interchange rate but recognizes that this threshold may result in combinations where the measured ties are perceived as minimal by residents of the two areas. The committee therefore recommends combinations of CBSAs, based on an employment interchange rate of at least 15 but less than 25, only if local opinion (as discussed in recommendation 10) in both areas favors the combination. If the employment interchange rate equals or exceeds 25, combinations should occur automatically.

9. Recommendations Concerning Titles of CBSAs, Metropolitan Divisions, NECTA Divisions, and Combined Areas

Each CBSA should be titled using the name of its principal city with the largest population, as well as the names of the second-and third-largest principal cities, if multiple principal cities are present.

Each metropolitan division should be titled using the name of the principal city with the largest population, as well as the names of the second- and third-largest principal cities, if multiple principal cities are present. If there are no principal cities located in the metropolitan division, the title of the metropolitan division should include the names of up to three counties in order of descending population size.

Each NECTA division should be titled using the name of the principal city with the largest population, as well as the names of the second- and third-largest principal cities, if multiple principal cities are present. If there are no principal cities located in the NECTA division, the title of the NECTA division should include the name of the city or town with the largest population.

Combined areas should be titled using the name of the largest principal city in the CBSA with the largest total population that combines, followed by the name of the largest principal city in each of up to two additional CBSAs that combine, provided that the second and third CBSAs in the combined area each have at least one-third of the total population of the largest CBSA.

Titles provide a means of uniquely identifying individual CBSAs, metropolitan divisions, NECTA divisions, and combined areas so that each is recognizable to a variety of data users. As such, the title of a CBSA, metropolitan division, NECTA division, or combined area should contain the names of geographic entities located in the area that are prominent and provide data users with a means of easily identifying the general location of the CBSA, metropolitan division, or NECTA division or extent of the combined area.

Finally, any state in which the CBSA, metropolitan division, NECTA division, or combined area is located also should be included in the title.

10. Recommendation Concerning Use of Statistical Rules and the Role of Local Opinion

Limited use should be made of local opinion in the definition process. Applying only statistical rules when defining areas minimizes ambiguity and maximizes the replicability and integrity of the process. The committee recommends consideration of local opinion only in cases of CBSA combinations where adjacent CBSAs have an employment interchange rate of at least 15 but less than 25.

Local opinion should be obtained through the appropriate congressional delegation. Members of the congressional delegation should be urged to contact a wide range of groups in their communities, including business or other leaders, chambers of commerce, planning commissions, and local officials, to solicit comments on the specific combination at issue. The committee also recommends the use of the Internet to make available information pertaining to the potential combination on which local opinion is sought. After a decision has been made, OMB should not request local opinion again on the same issue until the next redefinition of CBSAs.

11. Recommendation Concerning Settlement Structure within the Core Based Statistical Area Classification

The terms “urban,” “suburban,” “rural,” “exurban,” and so forth, should not be defined within the CBSA classification. The committee recognizes that formal definitions of settlement types such as inner city, inner suburb, outer suburb, exurb, and rural would be of use to the Federal statistical system as well as to researchers, analysts, and other users of Federal data. Such types, however, are not necessary for the delineation of statistical areas in this classification that describes the functional ties between geographic entities. These types would more appropriately be included in a separate classification that focuses exclusively on describing settlement patterns and land uses.

The committee recommends continuing research by the Census Bureau and other interested Federal agencies on settlement patterns below the county level to describe further the distribution of population and economic activity throughout the Nation.

12. Recommendations Concerning “Grandfathering” of Current Metropolitan Areas

The definitions of current metropolitan areas should not be automatically retained (“grandfathered”) in the implementation of the recommended “Standards for Defining Metropolitan and Micropolitan Areas.” The current status of individual counties as metropolitan or nonmetropolitan should not be considered when re-examining all counties using the recommended standards.

In this context, “grandfathering” refers to the continued designation of an area even though it does not meet the standards currently in effect. The 1990 standards permit changes in the definitions, or extent, of individual metropolitan areas through the addition or deletion of counties on the basis of each decennial census, but those standards do not permit the disqualification of metropolitan areas that previously qualified on the basis of a Census Bureau population count. To maintain the integrity of the classification, the committee favors the objective application of the recommended standards rather than continuing to recognize areas that do not meet the standards that currently are in effect. The committee recommends that the current status of a county as either metropolitan or nonmetropolitan play no role in the application of the recommended standards.

13. Recommendations Concerning the Schedule for Updating CBSAs

New CBSAs should be designated between decennial censuses on the basis of Census Bureau population estimates or special censuses for places. CBSAs should be updated on the basis of commuting data from the Census Bureau's American Community Survey, scheduled to be available for all counties beginning in 2008. CBSAs should not be reclassified among categories between decennial censuses.

The frequency with which new statistical areas are designated and existing areas updated has been of considerable interest to data producers and users. If revised standards are adopted by OMB, the first areas to be designated using the revised standards and Census 2000 data could be announced in 2003. The sources and future availability of data for updating these areas figured prominently in the committee's discussions. The availability of population totals and commuting data affects the ability to identify new CBSAs, reclassify existing areas among categories (that is, from micropolitan area to metropolitan area, metropolitan area to micropolitan area, or micropolitan area to outside CBSA), and update the extent of existing areas.

The 1990 standards provided for the designation of a new metropolitan area on the basis of a population estimate or a special census count for a city. The use of city special census counts or population estimates for designating new areas between decennial censuses, on an annual basis, would continue to provide the most consistent and equitable means of qualifying new CBSAs in the future because annual population estimates for existing and potential urbanized areas and urban clusters are not currently produced. The committee therefore recommends that a new CBSA should be designated if a city that is outside any existing CBSA has a Census Bureau population estimate of 10,000 or more for two consecutive years, or a Census Bureau special census count of 10,000 or more population. A new CBSA also should be designated if a special census results in delineation of an intercensal urban area of 10,000 or more population that is outside an existing CBSA.

The use of annual population estimates for cities, however, offers an unsatisfactory approach for reclassifying existing CBSAs from one category to another because it does not account for population growth in the unincorporated portions of an urbanized area or urban cluster or in unincorporated territory outside the boundary of an urbanized area or urban cluster. Growth in these settings is likely to be more important around existing, larger areas than around areas of approximately 10,000 population that are on the verge of qualifying as CBSAs; in some instances such growth could account for a large portion of an existing individual urbanized area's or urban cluster's growth. Because patterns of annexation and incorporation vary by state, the amount of incorporated territory within or adjacent to an urbanized area or urban cluster can vary from one state to another. Any approach that would move CBSAs from one category to another based on population estimates for incorporated places, rather than the population of cores in their entirety, would be biased in favor of CBSAs in states in which it is easier for municipalities to incorporate and to annex additional territory.

Adoption of a nationally equitable approach for reclassifying CBSAs from one category to another would require the preparation of population estimates at more detailed levels of geographic resolution (such as census blocks) than are currently produced. Further work is needed to develop methodologies for collecting information necessary for such estimates, and for preparing the estimates.

The composition of all existing CBSAs should be updated in 2008 using commuting data for each county from the Census Bureau's American Community Survey, averaged over five years and centered on 2005.

B. Comparison of 1990 Metropolitan Area Standards With the Recommended 2000 Metropolitan and Micropolitan Area Standards
| 1990 Metropolitan area standards | Recommended 2000 metropolitan and micropolitan area standards
Levels/Categories and Terminology | Identification of metropolitan areas comprising metropolitan statistical areas, consolidated metropolitan statistical areas, and primary metropolitan statistical areas. Metropolitan statistical areas and primary metropolitan statistical areas are identified as level A, B, C, or D areas based on total populations of at least 1,000,000, 250,000 to 999,999, 100,000 to 249,999, and less than 100,000, respectively. Metropolitan statistical areas of 1,000,000 or more population can be designated as consolidated metropolitan statistical areas if local opinion is in favor and component primary metropolitan statistical areas can be identified New England County Metropolitan Areas (NECMAs) also defined for the New England states | Identification of Core Based Statistical Areas (CBSAs) comprising two categories: metropolitan areas, based around at least one Census Bureau defined urbanized area of 50,000 or more population, and micropolitan areas, based around at least one urban cluster of 10,000 to 49,999 population. A metropolitan area with a single core of at least 2,500,000 population can be subdivided into component metropolitan divisions. Counties that are not included in a CBSA are referred to as “Outside CBSAs.” New England City and Town Areas (NECTAs) also defined for the New England states
Building Blocks | Counties and equivalent entities throughout the U.S. and Puerto Rico, except in New England, where cities and towns are used to define metropolitan areas. County based alternative provided for the New England states | Counties and equivalent entities throughout the U.S., Puerto Rico, and the Island Areas. City and town based areas, conceptually similar to the county based areas, provided for the New England states.
Qualification of Areas | City of at least 50,000 population, or Census Bureau defined urbanized area of at least 50,000 population in a metropolitan area of at least 100,000 population | Census Bureau defined urban area of at least 10,000 population
Qualification of Central Counties | Any county that includes a central city or at least 50% of the population of a central city that is located in a qualifier urbanized area. Also any county in which at least 50% of the population is located in a qualifier urbanized area | Any county in which at least 50% of the population is located in urban areas of at least 10,000 population, or that has within its boundaries a population of at least 5,000 located in a single urban area of at least 10,000 population
Qualification of Outlying Counties | Combination of commuting and measures of settlement structure • 50% or more of employed workers commute to the central county/counties of a metropolitan statistical area and: 25 or more persons per square mile (ppsm), or at least 10% or 5,000 of the population lives in a qualifier urbanized area; OR • 40% to 50% of employed workers commute to the central county/counties of a metropolitan statistical area and: 35 or more ppsm, or at least 10% or 5,000 of the population lives in a qualifier urbanized area; OR • 25% to 40% of employed workers commute to the central county/counties of a metropolitan statistical area and: 35 ppsm and one of the following: (1) 50 or more ppsm, (2) at least 35% urban population, (3) at least 10% or 5,000 of population lives in a qualifier urbanized area; OR • 15% to 25% of employed workers commute to the central county/counties of a metropolitan statistical area and: 50 or more ppsm and two of the following: (1) 60 or more ppsm, (2) at least 35% urban population, (3) population growth rate of at least 20%, (4) at least 10% or 5,000 of population lives in a qualifier urbanized area; OR | At least 25% of the employed residents of the county work in the central county/counties of a CBSA; or at least 25% of the employment in the county is accounted for by workers residing in the central county/counties of the CBSA.
| • 15% to 25% of employed workers commute to the central county/counties of a metropolitan statistical area and less than 50 ppsm and two of the following: (1) at least 35% urban population, (2) population growth rate of at least 20%, (3) at least 10% or 5,000 of population lives in a qualifier urbanized area; OR
| • At least 2,500 of the population lives in a central city located in a qualifier urbanized area of a metropolitan statistical area
| If a county qualifies as outlying to two or more metropolitan areas, it is assigned to the area to which commuting is greatest; if the relevant commuting percentages are within 5 points of each other, local opinion is considered | A county that qualifies as outlying to two or more CBSAs is included in the area with which it has the strongest commuting tie.
Merging Statistical Areas | If a county qualifies as a central county of one metropolitan statistical area and as an outlying county on the basis of commuting to a central county of another metropolitan statistical area, both counties become central counties of a single metropolitan statistical area | Two adjacent CBSAs are merged to form one CBSA if the central county/counties (as a group) of one CBSA qualify as outlying to the central county/counties (as a group) of the other
Central Cities/Principal Cities | Central cities include the largest city in a metropolitan statistical area/consolidated metropolitan statistical area AND each city of at least 250,000 population or at least 100,000 workers AND each city of at least 25,000 population and at least 75 jobs per 100 workers and less than 60% out commuting AND each city of at least 15,000 population that is at least 1/3 the size of largest central city and meets employment ratio and commuting percentage above AND the largest city of 15,000 population or more that meets employment ratio and commuting percentage above and is in a secondary noncontiguous urbanized area AND each city in a secondary noncontiguous urbanized area that is at least 1/3 the size of largest central city in that urbanized area and has at least 15,000 population and meets employment ratio and commuting percentage above | Principal cities include the largest incorporated place or census designated place in a CBSA AND each place of at least 250,000 population or in which at least 100,000 persons work AND each place with a population that is at least 10,000 and 1/3 the size of the largest place, and in which employment meets or exceeds the number of employed residents.
Primary Metropolitan Statistical Areas/Metropolitan Divisions and NECTA Divisions | Primary metropolitan statistical areas outside New England consist of one or more counties within metropolitan areas that have a total population of 1 million or more. Specifically, these primary metropolitan statistical areas consist of: (A) One or more counties designated as a standard metropolitan statistical area on January 1, 1980, unless local opinion does not support continued separate designation. (B) One or more counties for which local opinion strongly supports separate designation, provided one county has: (1) at least 100,000 population; (2) at least 60 percent of its population urban; (3) less than 35 percent of its resident workers working outside the county; and (4) less than 2,500 population of the largest central city in the metropolitan statistical area. (C) A set of two or more contiguous counties for which local opinion strongly supports separate designation, provided at least one county also could qualify as a primary metropolitan statistical area in section (B), and (1) each county meets requirements (B)(1), (B)(2), and (B)(4) and less than 50 percent of its resident workers work outside the county; (2) each county has a commuting interchange of at least 20 percent with the other counties in the set; and (3) less than 35 percent of the resident workers of the set of counties work outside the area | Metropolitan divisions consist of one or more counties within metropolitan areas that have a single core of 2.5 million or more population. A county is identified as a main county of a metropolitan division if: (a) greater than 50 percent of its employed residents work within the county; (b) the ratio of its employment to its number of employed residents is at least 0.75; and (c) the highest rate of out-commuting from the county to any other county is less than 15 percent. After all main counties have been identified, each additional county that already has qualified for the metropolitan area is included in the metropolitan division associated with the main county to which the county at issue sends the highest percentage of its out-commuters. Counties within a metropolitan division must be contiguous.
| Each county in the metropolitan area not included within a central core under sections (A) through (C), is assigned to the contiguous primary metropolitan statistical area to whose central core commuting is greatest, provided this commuting is: (1) at least 15 percent of the county's resident workers; (2) at least 5 percentage points higher than the commuting flow to any other primary metropolitan statistical area central core that exceeds 15 percent; and
| (3) larger than the flow to the county containing the metropolitan area's largest central city If a county has qualifying commuting ties to two or more primary metropolitan statistical area central cores and the relevant values are within 5 percentage points of each other, local opinion is considered
| Primary metropolitan statistical areas in New England consist of groups of cities and towns within metropolitan areas that have a total population of 1 million or more. Specifically, these primary metropolitan statistical areas consist of: (D) Any group of cities and towns designated as a standard metropolitan statistical area on January 1, 1980, unless local opinion does not support its continued designation (E) Any additional group of cities and/or towns for which local opinion strongly supports separate designation, provided: (1) the total population of the group is at least 75,000; (2) the group includes at least one city with a population of 15,000 or more, an employment/residence ratio of at least 0.75, and at least 40 percent of its employed residents working in the city; (3) the group contains a core of communities, each of which has at least 50 percent of its population living in the urbanized area, and which together have less than 40 percent of their resident workers commuting to jobs outside the core; and (4) each community in the core also has: (a) at least 5 percent of its resident workers working in the component core city identified in section (E)(2), or at least 10 percent working in the component core city or in places already qualified for this core; this percentage also must be greater than that to any other core or to the largest city of the metropolitan area, and (b) at least 20 percent commuting interchange with the component core city together with other cities and towns already qualified for the core; this interchange also must be greater than with any other core or with the largest city of the metropolitan area | New England City and Town Area (NECTA) Divisions consist of one or more cities and towns within NECTAs that have at least one core of 2.5 million or more population. A city or town is identified as a main city or town of a NECTA Division if the city or town at issue has a population of 50,000 or more and its highest rate of out-commuting to any other city or town is less than 20 percent. After all main cities and towns have been identified, each additional city and town that already has qualified for inclusion in the NECTA should be included in the NECTA Division associated with the city or town to which the one at issue sends the highest percentage of its out-commuters. Each NECTA Division must contain a total population of 100,000 or more. Cities and towns at first assigned to areas with less than 100,000 population subsequently will be assigned to the qualifying NECTA Division associated with the city or town to which the one at issue sends the highest percentage of its out-commuters. Cities and towns within a NECTA Division must be contiguous.
| (F) Any group of cities and towns resulting from merging contiguous component central cores. Such a merging of cores may take place if: (1) section E would qualify the component core city of one core for inclusion in the other core, and (2) there is substantial local support for treating the two as a single core
| Each city or town in the metropolitan area not included in the core under sections D through F is assigned to the contiguous primary metropolitan statistical area to whose core its commuting is greatest, if: (1) this commuting is at least 15 percent of the place's resident workers; and (2) the commuting interchange with the core is greater than with the metropolitan area's largest city
| If a city or town has qualifying commuting ties to two or more cores and the relevant values are within 5 percentage points of each other, local opinion is considered before the place is assigned to any primary metropolitan statistical area
| If primary metropolitan statistical areas have been recognized within a metropolitan area under the above provisions, the balance of the metropolitan area, which includes its largest central city, also is recognized as a primary metropolitan statistical area
| Definitions of primary metropolitan statistical areas are based on these standards and a review of local opinion.
Combining Statistical Areas | Two adjacent metropolitan statistical areas are combined as a single metropolitan statistical area if: (A) the total population of the combination is at least one million and (1) the commuting interchange between the two metropolitan statistical areas is equal to at least 15% of the employed workers residing in the smaller metropolitan statistical area, or equal to at least 10% of the employed workers residing in the smaller metropolitan statistical area and the urbanized area of a central city of one metropolitan statistical area is contiguous with the urbanized area of a central city of the other metropolitan statistical area or a central city in one metropolitan statistical area is included in the same urbanized area as a central city in the other metropolitan statistical area; AND (2) at least 60% of the population of each metropolitan statistical area is urban. (B) the total population of the combination is less than one million and (1) their largest central cities are within 25 miles of one another, or the urbanized areas are contiguous; AND (2) there is definite evidence that the two areas are closely integrated economically and socially; AND (3) local opinion in both areas supports combination. | Two adjacent CBSAs are combined if the employment interchange rate between the two areas is at least 25. The employment interchange rate is the sum of the percentage of employed residents of the CBSA with the smaller total population who work in the CBSA with the larger total population and the percentage of employment in the CBSA with the smaller total population that is accounted for by workers residing in the CBSA with the larger total population. Adjacent CBSAs that have an employment interchange rate of at least 15 and less than 25 may combine if local opinion in both areas favors combination. The combining CBSAs also retain separate recognition.
Titles | Titles of metropolitan statistical areas include the names of up to three central cities in order of descending population size. Local opinion is considered under specified conditions Titles of primary metropolitan statistical areas include the names of up to three cities in the primary metropolitan statistical area that have qualified as central cities. If there are no central cities, the title will include the names of up to three counties in the primary metropolitan statistical area in order of descending population size Titles of consolidated metropolitan statistical areas include the names of up to three central cities or counties in the consolidated metropolitan statistical area. The first name will be the largest central city in the consolidated metropolitan statistical area; the remaining two names will be the first city or county name that appears in the title of the remaining primary metropolitan statistical area with the largest total population and the first city or county name that appears in the title of the primary metropolitan statistical area with the next largest total population. Regional designations can be substituted for the second and third names if there is strong local support | Titles of CBSAs include the names of up to three principal cities in order of descending population size. Titles of metropolitan divisions include the names of up to three principal cities in the metropolitan division in order of descending population size. If there are no principal cities, the title includes the names of up to three counties in the metropolitan division in order of descending population size. Titles of combined areas include the name of the largest principal city in the largest CBSA that combines, followed by the names of the largest principal city in each of up to two additional CBSAs that combine, provided that the second and third CBSAs in the combined area each have at least one-third the population of the first.
Local Opinion | Consulted when: • A county qualifies as outlying to two different metropolitan statistical areas and the relevant commuting percentages are within 5 points of each other; | Consulted when two CBSAs qualify for combination with an employment interchange rate of at least 15 but less than 25.
| • A city or town in New England qualifies as outlying to two different metropolitan statistical areas and has relevant commuting percentages within 5 points of each other;
| • A city or town in New England qualifies as outlying to a metropolitan statistical area but has greater commuting to a nonmetropolitan city or town and the relevant commuting percentages are within 5 points of each other;
| • Combining metropolitan statistical areas whose total population is less than 1,000,000;
| • Assigning titles of metropolitan statistical areas, consolidated metropolitan statistical areas, and primary metropolitan statistical areas; and
| Designating primary metropolitan statistical areas
Grandfathering | A metropolitan statistical area designated on the basis of census data according to standards in effect at the time of designation will not be disqualified on the basis of lacking a city of at least 50,000 population or an urbanized area of at least 50,000 or a total population of at least 100,000. | Areas that do not meet the standards for designation do not qualify.
Intercensal Updating | A new metropolitan area can be designated intercensally if a city has a Census Bureau population estimate or special census count of at least 50,000 or if a county containing an urbanized area has a Census Bureau population estimate or special census count of at least 100,000. Outlying counties are added to existing metropolitan statistical areas intercensally only when (1) a central city located in a qualifier urbanized area extends into a county not included in the metropolitan statistical area and the population of that portion of the city in the county is at least 2,500 according to a Census Bureau population count or (2) an intercensally designated metropolitan statistical area qualifies to combine with an existing metropolitan statistical area. New central cities can be designated intercensally on the basis of a special census count. | A new CBSA can be designated if a city has a Census Bureau population estimate of 10,000 or more for two consecutive years or a Census Bureau special census count of 10,000 or more. The geographic extent of each CBSA would be re-examined in 2008 using commuting data from the Census Bureau's American Community Survey.

C. Recommended Standards for Defining Metropolitan and Micropolitan Areas

These standards are for use in defining Core Based Statistical Areas (CBSAs) of which there are two categories: Metropolitan Areas and Micropolitan Areas. A CBSA is a statistical geographic entity associated with at least one core of 10,000 or more population, plus adjacent territory having a high degree of social and economic integration with the core as measured by commuting ties.

The purpose of the Metropolitan and Micropolitan Area Standards is to provide a nationally consistent set of area definitions suitable for collecting, tabulating, and publishing Federal statistics. CBSAs are not designed to serve as a general purpose geographic framework applicable to nonstatistical activities, programs, or funding formulas.

CBSAs consist of counties and equivalent entities throughout the United States, Puerto Rico, and the Island Areas. Because of the importance of cities and towns as the primary units of local government in New England, a set of geographic areas similar in concept to the county based CBSAs also will be defined for that region using cities and towns. These New England City and Town Areas (NECTAs) are intended for use with statistical data, whenever feasible and appropriate, for New England. Data providers and users desiring areas defined using a nationally consistent geographic building block should consider using the county based CBSAs in New England.

The following criteria apply to both the nationwide county based CBSAs and to NECTAs, with the exceptions of Sections 7 and 9, in which separate criteria are applied when identifying and titling divisions within NECTAs that contain at least one core of 2.5 million or more population. Wherever the word “county” or “counties” appears in the following criteria (except in Sections 7 and 9), the words “city and town” or “cities and towns” should be substituted, as appropriate, when defining NECTAs.

1. Population Size Requirements for Qualification of Core Based Statistical Areas

Each CBSA must have a Census Bureau defined urbanized area of at least 50,000 population or a Census Bureau defined urban cluster of at least 10,000 population. (Urbanized areas and urban clusters are collectively referred to as “urban areas.”)

2. Central Counties

The central county or counties of a CBSA are those counties that:

(a) Have at least 50 percent of their population in urban areas of at least 10,000 population; or

(b) Have within their boundaries a population of at least 5,000 that is located in a single urban area of at least 10,000 population.

A central county is associated with the urbanized area or urban cluster that accounts for the largest portion of the county's population. The central counties associated with a particular urbanized area or urban cluster are grouped to form a single cluster of central counties for purposes of measuring commuting to and from outlying counties.

3. Outlying Counties

An outlying county is included in a CBSA if it meets the following commuting requirements:

(a) At least 25 percent of the employed residents of the county work in the central county or counties of the CBSA; or

(b) At least 25 percent of the employment in the county is accounted for by workers who reside in the central county or counties of the CBSA.

A county may be included in only one CBSA. If a county qualifies as a central county of one CBSA and as outlying in another, it will be included in the CBSA in which it is a central county. A county that qualifies as outlying to multiple CBSAs will be included in the CBSA with which it has the strongest commuting tie, as measured by either (a) or (b) above. The counties included in a CBSA must be contiguous; if a county is not contiguous with other counties in the CBSA, it will not be included in the CBSA.

4. Merging of Adjacent Core Based Statistical Areas

Two adjacent CBSAs will be merged to form one CBSA if the central county or counties (as a group) of one CBSA qualify as outlying to the central county or counties (as a group) of the other CBSA using the measures and thresholds stated in 3(a) and 3(b) above.

5. Identification of Principal Cities

The principal city (or cities) of a CBSA will include:

(a) The largest incorporated place or census designated place in the CBSA;

(b) Any additional incorporated place or census designated place with a population of at least 250,000 or in which 100,000 or more persons work; and

(c) Any additional incorporated place or census designated place with a population that is at least 10,000 and one-third the size of the largest place, and in which the number of jobs meets or exceeds the number of employed residents.

6. Categories and Terminology

A CBSA will be assigned a category based on the population of the largest urban area (urbanized area or urban cluster) within the CBSA. Categories of CBSAs are: Metropolitan Areas, based around urbanized areas of 50,000 or more population, and Micropolitan Areas, based around urban clusters of at least 10,000 population but less than 50,000 population.

Counties that are not included in CBSAs will be referred to as being “Outside Core Based Statistical Areas.”

7. Divisions of Metropolitan Areas and New England City and Town Areas

Metropolitan Areas containing at least one core with a population of at least 2.5 million may be subdivided to form smaller groupings of counties referred to as Metropolitan Divisions.

A county will be identified as a main county of a Metropolitan Division if:

(a) Greater than 50 percent of its employed residents work within the county;

(b) The ratio of the number of jobs located within that county to its number of employed residents is at least 0.75; and

(c) The highest rate of out-commuting from the county to any other county is less than 15 percent.

After all main counties have been identified, each remaining county in the Metropolitan Area will be included in the Metropolitan Division associated with the main county to which the county at issue sends the highest percentage of its out-commuters. Counties within a Metropolitan Division must be contiguous.

NECTAs containing at least one core with a population of at least 2.5 million may be subdivided to form smaller groupings of cities and towns referred to as NECTA Divisions.

A city or town is identified as a “main city or town” of a NECTA Division if:

(a) The city or town at issue has a population of 50,000 or more; and

(b) Its highest rate of out-commuting to any other city or town is less than 20 percent.

After all main cities and towns have been identified, each remaining city and town in the NECTA will be included in the NECTA Division associated with the city or town to which the one at issue sends the highest percentage of its out-commuters.

Each NECTA Division must contain a total population of 100,000 or more. Cities and towns first assigned to areas with populations less than 100,000 will be assigned to the qualifying NECTA Division associated with the city or town to which the one at issue sends the highest percentage of its out-commuters. Cities and towns within a NECTA Division must be contiguous.

8. Combining Adjacent Core Based Statistical Areas

Any two adjacent CBSAs will form a Combined Area if the employment interchange rate between the two areas is at least 25. The employment interchange rate between two CBSAs is defined as the sum of the percentage of employed residents of the CBSA with the smaller total population who work in the area with the larger total population and the percentage of employment in the CBSA with the smaller total population that is accounted for by workers residing in the CBSA with the larger total population. Adjacent CBSAs that have an employment interchange rate of at least 15 and less than 25 will be combined if local opinion, as reported by the congressional delegations in both areas, favors combination. The CBSAs that combine retain separate identities within the larger Combined Areas.

9. Titles of Core Based Statistical Areas, Metropolitan Divisions, New England City and Town Area Divisions, and Combined Areas

The title of a CBSA will include the name of its principal city with the largest Census 2000 population. If there are multiple principal cities, the names of the second largest and third largest principal cities will be included in the title in order of descending population size.

The title of a Metropolitan Division will include the name of the principal city with the largest Census 2000 population located within the Metropolitan Division. If there are multiple principal cities, the names of the second largest and third largest principal cities will be included in the title in order of descending population size. If there are no principal cities located within the Metropolitan Division, the title of the Metropolitan Division will include the names of up to three counties in order of descending population size.

The title of a NECTA Division will include the name of the principal city with the largest Census 2000 population located within the NECTA Division. If there are multiple principal cities, the names of the second largest and third largest principal cities will be included in the title in order of descending population size. If there are no principal cities located within the NECTA Division, the title of the NECTA Division will include the name of the city or town with the largest population.

The title of a Combined Area will include the name of the largest principal city in the largest CBSA that combines, followed by the largest principal city in each of up to two additional CBSAs that combine, provided that the second and third CBSAs in the Combined Area each have at least one-third the population of the largest CBSA in the combination.

CBSA, Metropolitan Division, NECTA Division, and Combined Area titles also will include the names of any state in which the area is located.

10. Update Schedule

CBSAs based on Census 2000 data are scheduled to be defined in 2003. Subsequently, new CBSAs will be designated intercensally if:

(a) A city that is outside any existing CBSA has a Census Bureau special census count of 10,000 or more population, or Census Bureau population estimates of 10,000 or more population for two consecutive years, or

(b) A Census Bureau special census results in the delineation of a new urban area (urbanized area or urban cluster) of 10,000 or more population that is outside of any existing CBSA.

In the years through 2007, outlying counties of intercensally designated CBSAs will be qualified, according to the criteria in Section 3 above, on the basis of Census 2000 commuting data.

The definitions of all existing CBSAs will be reviewed in 2008 using commuting data from the Census Bureau's American Community Survey. The central counties of CBSAs identified on the basis of a Census 2000 population count, or on the basis of population estimates or a special census count in the case of intercensally defined areas, will constitute the central counties for purposes of the 2008 CBSA definition review. New CBSAs will be designated in 2008 and 2009 on the basis of Census Bureau special census counts or population estimates as described above; outlying county qualification in these years will be based on 2008 commuting data from the American Community Survey.

11. Local Opinion

Local opinion, as used in these standards, is the reflection of the views of the public and is obtained through the appropriate congressional delegations. Under the Metropolitan and Micropolitan Area Standards, local opinion is sought only when two adjacent CBSAs qualify for combination based on an employment interchange rate of at least 15 but less than 25 (see Section 8). The two CBSAs will be combined only if there is evidence that local opinion in both areas favors the combination. After a decision has been made regarding the combination of CBSAs, the Office of Management and Budget will not request local opinion again on the same question until the next redefinition of CBSAs.

D. Key Terms

(An asterisk (*) denotes new terms defined for the purposes of the Metropolitan Area Standards Review Project. Two asterisks (**) denote terms whose definitions have changed for purposes of the Metropolitan Area Standards Review Project.)

Census designated place—A statistical geographic entity that is equivalent to an incorporated place, defined for the decennial census, consisting of a locally recognized, unincorporated concentration of population that is identified by name.

Central city—The largest city of a metropolitan statistical area or a consolidated metropolitan statistical area, plus additional cities that meet specified statistical criteria in the 1990 metropolitan area standards.

** Central county—The county or counties of a core based statistical area containing a substantial portion of an urbanized area or urban cluster or both, and to and from which commuting is measured to determine qualification of outlying counties.

* Combined area—A geographic entity consisting of two or more adjacent core based statistical areas (CBSAs) with employment interchange rates of at least 15. CBSAs with employment interchange rates of at least 25 combine automatically. CBSAs with employment interchange rates of at least 15 but less than 25 may combine if local opinion in both areas favors combination.

** Core—A densely settled concentration of population, comprising either an urbanized area (of 50,000 or more population) or an urban cluster (of 10,000 to 49,999 population) defined by the Census Bureau, around which a core based statistical area is defined.

* Core based statistical area (CBSA)—A statistical geographic entity consisting of the county or counties associated with at least one core (urbanized area or urban cluster) of at least 10,000 population, plus adjacent counties having a high degree of social and economic integration with the core as measured through commuting ties with the counties containing the core. Metropolitan and micropolitan areas are two categories of core based statistical areas.

* Employment interchange rate—A measure of ties between two adjacent core based statistical areas (CBSAs) used when determining whether they qualify to be combined. The employment interchange rate is the sum of the percentage of employed residents of the smaller CBSA who work in the larger CBSA and the percentage of employment in the smaller CBSA that is accounted for by workers who reside in the larger CBSA.

Geographic building block—The geographic unit, such as a county, that forms the basic geographic component of a statistical area.

* Main city or town—A city or town that acts as an employment center within a New England city and town area that has a core with a population of at least 2.5 million. A main city or town serves as the basis for defining a New England city and town area division.

* Main county—A county that acts as an employment center within a core based statistical area that has a core with a population of at least 2.5 million. A main county serves as the basis for defining a metropolitan division.

** Metropolitan area—A collective term, established by OMB and used for the first time in 1990, to refer to metropolitan statistical areas, consolidated metropolitan statistical areas, and primary metropolitan statistical areas. Also, as introduced for this Notice, a core based statistical area associated with at least one urban area that has a population of 50,000 or more; the metropolitan area comprises the central county or counties containing the core, plus adjacent outlying counties having a high degree of social and economic integration with the central county as measured through commuting.

* Metropolitan division—A county or group of counties within a core based statistical area that contains a core with a population of at least 2.5 million. A metropolitan division consists of one or more main counties that represent an employment center or centers, plus adjacent counties associated with the main county or counties through commuting ties.

Metropolitan statistical area—A geographic entity, defined by OMB for statistical purposes, containing a large population nucleus and adjacent communities having a high degree of social and economic integration with that nucleus. Under the 1990 metropolitan area standards, qualification of an MSA required a city with 50,000 population or more, or an urbanized area of 50,000 population or more and a total population of at least 100,000 (75,000 in New England). MSAs are composed of entire counties, except in New England where the components are cities and towns.

* Micropolitan area—A core based statistical area associated with at least one urban area that has a population of at least 10,000 but less than 50,000. The micropolitan area comprises the central county or counties containing the core, plus adjacent outlying counties having a high degree of social and economic integration with the central county as measured through commuting.

Minor civil division—A type of governmental unit that is the primary legal subdivision of a county, created to govern or administer an area rather than a specific population.

New England county metropolitan area (NECMA)—Under the 1990 metropolitan area standards, a county based statistical area defined by OMB to provide an alternative to the city and town based metropolitan statistical areas and consolidated metropolitan statistical areas in New England.

* New England city and town area (NECTA)—A statistical geographic entity that is defined using cities and towns as building blocks and that is conceptually similar to the core based statistical areas in New England (which are defined using counties as building blocks).

* New England city and town area (NECTA) division—A city or town or group of cities and towns within a NECTA that contains a core with a population of at least 2.5 million. A NECTA division consists of a main city or town that represents an employment center, plus adjacent cities and towns associated with the main city or town, or with other cities and towns that are in turn associated with the main city or town, through commuting ties.

** Outlying county—A county that qualifies for inclusion in a core based statistical area on the basis of commuting ties with the core based statistical area's central county or counties.

* Outside core based statistical areas—Counties that do not qualify for inclusion in a core based statistical area.

* Principal city—The largest city of a core based statistical area, plus additional cities that meet specified statistical criteria.

Urban area—The generic term used by the Census Bureau to refer collectively to urbanized areas and urban clusters.

Urban cluster—A statistical geographic entity to be defined by the Census Bureau for Census 2000, consisting of a central place(s) and adjacent densely settled territory that together contain at least 2,500 but less than 50,000 people, generally with an overall population density of at least 1,000 people per square mile. For purposes of defining core based statistical areas, only those urban clusters of 10,000 more population are considered. (Previous Notices referred to urban clusters as “settlement clusters.”)

Urbanized area—A statistical geographic entity defined by the Census Bureau, consisting of a central place(s) and adjacent densely settled territory that together contain at least 50,000 people, generally with an overall population density of at least 1,000 people per square mile.

[FR Doc. 00-20951 Filed 8-21-00; 8:45 am]

BILLING CODE 3110-01-U